DEPARTMENT OF LABOR

Employment and Training Administration

[TA-W-53,928]

Tech-Tran Corp., Rancocas, NJ; Notice of Termination of Investigation

Pursuant to section 221 of the Trade Act of 1974, as amended, an investigation was initiated on January 2, 2004, in response to a petition filed on behalf of workers at Tech-Tran Corporation, Rancocas, New Jersey. The workers produced electrical transformers.

Two of the petitioning workers were separated from the subject firm more than one year before the date of the petition. Section 223(b) of the Act specifies that no certification may apply to any worker whose last separation occurred more than one year before the date of the petition. Consequently, further investigation in this case would serve no purpose, and the investigation has been terminated.

Signed at Washington, DC, this 20th day of February, 2004.
Linda G. Poole,
Certifying Officer, Division of Trade Adjustment Assistance.

[FR Doc. 04-4975 Filed 3-4-04; 8:45 am]

BILLING CODE 4510-30-P